DEPARTMENT OF TRANSPORTATION

Federal Aviation Administration

Notice of Availability of a Final Environment Assessment (Final EA) and a Finding of No Significant Impact/Record of Decision (FONSI/ROD) for the Proposed Runway 22R/4L Offset ILS at Detroit Metropolitan Wayne County Airport (DTW) Located in Romulus, Detroit

AGENCY: Federal Aviation Administration (FAA), DOT.

ACTION: Notice of Availability of a Final Environmental Assessment and a Finding of No Significant Impact/Record of Decision for the Proposed Runway 22R/4L Offset ILS at Detroit Metropolitan Wayne County Airport.

SUMMARY: The Federal Aviation Administration (FAA) is issuing this notice to advise the public that it has prepared a Final Environmental Assessment (Final EA) for the Proposed Runway 22R/4L Offset ILS at Detroit Metropolitan Wayne County Airport and on April 27, 2007, it has approved a Finding of No Significant Impact/Record of Decision (FONSI/ROD) based on this Final EA. The Federal Aviation Administration (FAA) prepared the Final EA in accordance with the National Environmental Policy Act and the Federal Aviation Administration's regulations and guidelines for environmental documents. The Final EA was reviewed and evaluated by the FAA, and was accepted on April 27, 2007 as a Federal document by the FAA's Responsible Federal Official.

FOR FURTHER INFORMATION CONTACT: Ms. Virginia Marcks, Environmental Engineer, Engineering Services, Central Service Area, Federal Aviation Administration, 2300 East Devon Avenue, Des Plaines, Illinois 60018, Telephone number: 847-294-7494.

SUPPLEMENTARY INFORMATION: The Federal Aviation Administration (FAA) has prepare and is making available the Final Environmental Assessment (Final EA) for the following proposed actions at the Detroit Metropolitan Wayne County Airport: The development and use of the offset ILS approach procedures for Runways 22R and 4L, the installation of two (2) offset localizers, the construction of localizer buildings and associated equipment, the construction of access roads, the installation of mulitlateration equipment including 32 precision runway monitors (Precision Runway Monitors), the installation of Airport Surveillance Detection Equipment (ASDE), the reissuance of aeronautical charts with the 22R/4L offset ILS approach information, the issuance of National Airspace System (NAS) Change Proposed (NCP) waivers associated with design and installation of the preceding, the development, issuance, and implementation of Air Traffic procedures, flight check and testing and certification of proposed equipment, and funding for development and implementation of the proposed action.

The Final EA has been prepared in accordance with the National Environmental Policy Act (NEPA) of 1969, as amended, FAA Orders 1050.1E, “Environmental Impacts: Policies and Procedures” and FAA Order 5050.4B, “NEPA Implementing Instructions for Airport Actions.” The proposed development action is consistent with the National Airspace System Plan prepared by the U.S. Department of Transportation Federal Aviation Administration (FAA).

A Final Environmental Assessment and the Finding of No Significant Impact/Record of Decision (FONSI/ROD) will be available for public viewing during normal business hours at the following locations:

(1) Romulus Public Library, 11121 Wayne Rd., Romulus, MI 48174, (734) 942-7589.

(2) Wayne City Pubic Library, 3737 S. Wayne Rd., Wayne, MI 48174 (734) 721-7832.

(3) Taylor Community Library, 12303 Pardee Rd., Taylor, MI 48180, (734) 287-4840.

(4) Inkster Public Library, 2005 Inkster Rd., Inkster, MI 48141, (313) 563-2822.

(5) Wayne County Library, 30555 Michigan Ave., Westland, MI 48186 (734) 727-7310.

(6) Federal Aviation Administration Airports District Office, 11677 South Wayne Road, Suite 107, Romulus MI 48174. Advance arrangements need to be made by calling (734) 229-2905, prior to visiting the ADO.

The Final EA and FONSI/ROD will be available through June 30, 2007.

Issued in Des Plaines, Illinois, April 27, 2007.
Rudolf F.L. Harmon,
CSA Technical Operations, Engineering Services, Infrastructure Engineering Center.

[FR Doc. 07-2247 Filed 5-7-07; 8:45 am]

BILLING CODE 4910-13-M